FEDERAL EMERGENCY MANAGEMENT AGENCY

44 CFR Part 67

Final Flood Elevation Determinations

AGENCY: Federal Emergency Management Agency (FEMA).

ACTION: Final rule.

SUMMARY: Base (1-percent-annual-chance) Flood Elevations and modified Base Flood Elevations (BFEs) are made final for the communities listed below. The BFEs and modified BFEs are the basis for the floodplain management measures that each community is required either to adopt or to show evidence of being already in effect in order to qualify or remain qualified for participation in the National Flood Insurance Program (NFIP).

EFFECTIVE DATE: The date of issuance of the Flood Insurance Rate Map (FIRM) showing BFEs and modified BFEs for each community. This date may be obtained by contacting the office where the FIRM is available for inspection as indicated in the table below.

ADDRESSES: The final base flood elevations for each community are available for inspection at the office of the Chief Executive Officer of each community. The respective addresses are listed in the table below.

FOR FURTHER INFORMATION CONTACT: Michael M. Grimm, Acting Chief, Hazard Study Branch, Federal Insurance and Mitigation Administration, 500 C Street, SW., Washington, DC 20472, (202) 646-2878 or (e-mail) michael.grimm@fema.gov.

SUPPLEMENTARY INFORMATION: FEMA makes final determinations listed below of BFEs and modified BFEs for each community listed. The proposed BFEs and proposed modified BFEse were published in newspapers of local circulation and an opportunity for the community or individuals to appeal the proposed determinations to or through the community was provided for a period of ninety (90) days. The proposed BFEs and proposed modified BFEs were also published in the Federal Register.

This final rule is issued in accordance with Section 110 of the Flood Disaster Protection Act of 1973, 42 U.S.C. 4104, and 44 CFR part 67.

FEMA has developed criteria for floodplain management in floodprone areas in accordance with 44 CFR part 60.

Interested lessees and owners of real property are encouraged to review the proof Flood Insurance Study and FIRM available at the address cited below for each community.

The BFEs and modified BFEs are made final in the communities listed below. Elevations at selected locations in each community are shown.

National Environmental Policy Act. This rule is categorically excluded from the requirements of 44 CFR part 10, Environmental Consideration. No environmental impact assessment has been prepared.

Regulatory Flexibility Act. The Administrator of the Federal Insurance and Mitigation Administration certifies that this rule is exempt from the requirements of the Regulatory Flexibility Act because final or modified base flood elevations are required by the Flood Disaster Protection Act of 1973, 42 U.S.C. 4104, and are required to establish and maintain community eligibility in the NFIP. No regulatory flexibility analysis has been prepared.

Regulatory Classification. This final rule is not a significant regulatory action under the criteria of Section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of Section 2(b)(2) of Executive Order 12778.

List of Subjects in 44 CFR Part 67

Administrative practice and procedure, Flood insurance, Reporting and record keeping requirements.

Accordingly, 44 CFR part 67 is amended to read as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Source of flooding and location of referenced elevation | *Elevation in feet (NGVD) modified | Commuities affected
Elm Creek:
Approximately 700 feet downstream of South Main Street | *756 | (FEMA Docket No. P7611) City of Grove, Delaware County
Approximately 2,700 feet upstream of N4640 Road | *837
Flint Creek:
Approximately 6,850 feet downstream of U.S. 59 | *858 | Delaware County
Approximately 1,100 feet upstream of D579 Road (Beckwith Bridge) | *889
Grand Lake of the Cherokees: Entire shoreline | *756 | (FEMA Docket No. P7611) City of Grove, Town of Bernice, Delaware County
Illinois River:
Approximately 7,150 feet downstream of the confluence of Flint Creek | *851 | Delaware County
Approximately 5,850 feet upstream of the confluence of Flint Creek | *863
North Tributary to Spring Branch:
Approximately 350 feet upstream of North Cherokee Street | *753 | Delaware County
Approximately 1,100 feet downstream of North Cherokee Street | *756
*National Geodetic Vertical Datum
Delaware County
Maps are available for inspection at the Floodplain Administrator's Office, County Court House, Delaware County, Jay, Oklahoma.
City of Grove
Maps are available for inspection at the City Manager's Office, City of Grove, 104 West 3rd Street, Grove, Oklahoma.
Town of Bernice
Maps are available for inspection at the Mayor's Office, Town of Bernice, 400 East Main, Bernice, Oklahoma.
Alsuma Creek:
Approximately 200 feet upstream of Missouri Kansas Texas Railroad | *668 | (FEMA Docket No. P7611) City of Tulsa
Approximately 150 feet upstream of East 55th Street | *680
Audubon Creek:
At the mouth | *637
Approximately 1,600 feet upstream of East 31st Street South | *673
Bell Creek:
At the mouth | *644
Approximately 1,200 feet upstream of East 41st Street South | *671
Bell Creek Tributary:
At the mouth | *652
Just downstream of 50th Street South | *682
Brookhollow Creek:
Approximately 150 feet downstream of Mingo Road | *640
Approximately 150 feet downstream of South 129th East Avenue | *692
Catfish Creek:
Approximately 50 feet upstream of Railroad Bridge | *688 | (FEMA Docket No. 7611) City of Tulsa
Just downstream of East 61st Street | *678
Cooley Creek:
At the mouth | *615
At the county boundary | *699
Douglas Creek:
At the mouth | *609 | City of Tulsa, Tulsa County
Just downstream of State Highway 11 | *630
Eagle Creek:
At the mouth | *608 | City of Tulsa
Approximately 2,600 feet upstream of East Pine Street | *655
Ford Creek:
At the mouth | *661
Just down of East 51st Street South | *719
Fulton Creek:
At the mouth | *647
Approximately 200 feet downstream of 39th Street | *666
Jones Creek:
At the mouth | *629 | (FEMA Docket No. P7611) City of Tulsa
Approximately 200 feet upstream of 69th East Avenue | *686
Little Creek:
Approximately 1,200 feet downstream of Mingo Valley Expressway (Highway 169) | *602
Just downstream of 129th East Avenue | *649
Mill Creek:
At the mouth | *622
Just downstream of East 15th Street | *727
Mingo Creek:
Approximately 600 feet upstream of East 56th Street North | *589 | City of Tulsa, Tulsa County
Approximately 500 feet downstream of South Memorial Drive | *724
Quarry Creek:
Approximately 350 feet upstream of the mouth | *604 | City of Tulsa
Just downstream of North 145th East Avenue | *680
Southpark Creek:
At the mouth | *652
Approximately 6,150 feet upstream of Garnett Road | *688
Sugar Creek:
At the mouth | *647 | (FEMA Docket No. P7611) City of Tulsa
Just downstream of South 129th East Avenue | *692
Tupelo Creek:
Approximately 200 feet upstream of Mingo Road | *621
Approximately 700 feet upstream of East 16th Street | *661
Tupelo Creek Tributary A:
At the mouth | *647
Just downstream of South 129th East Avenue | *696
Tupelo Creek Tributary C:
Approximately 200 feet downstream of South Garnett Road | *643
Just downstream of South 129th East Avenue | *697
*National Geodetic Vertical Datum
City of Tulsa
Maps are available for inspection at 200 Civic Center, Tulsa, Oklahoma.
Tulsa County
Maps are available for inspection at the Tulsa County Anex Building, 633 West 3rd, Room 140, Tulsa, Oklahoma.

(Catalog of Federal Domestic Assistance No. 83.100, “Flood Insurance.”)

Dated: January 21, 2003.
Anthony S. Lowe,
Administrator, Federal Insurance and Mitigation Administration.

[FR Doc. 03-2245 Filed 1-30-03; 8:45 am]

BILLING CODE 6718-04-P